DEPARTMENT OF ENERGY

Federal Energy Regulatory Commission

Combined Notice of Filings

August 28, 2008.

Take notice that the Commission has received the following Natural Gas Pipeline Rate and Refund Report filings:

Docket Numbers: RP06-200-049.

Applicants: Rockies Express Pipeline LLC.

Description: Rockies Express Pipeline LLC submits Second Revised Sheet 8C to FERC Gas Tariff, Second Revised Volume 1.

Filed Date: 08/27/2008.

Accession Number: 20080828-0015.

Comment Date: 5 p.m. Eastern Time on Monday, September 08, 2008.

Docket Numbers: RP96-272-079.

Applicants: Northern Natural Gas Company.

Description: Northern Natural Gas Co. submits Ninth Revised Sheet 66B.01 et al. to FERC Gas Tariff, Fifth Revised Volume 1, to be effective 7/1/08.

Filed Date: 08/26/2008.

Accession Number: 20080827-0054.

Comment Date: 5 p.m. Eastern Time on Monday, September 08, 2008.

Docket Numbers: RP08-538-000.

Applicants: El Paso Natural Gas Company.

Description: El Paso Natural Gas Co. submits Third Revised Sheet 202A.01 et al. to FERC Gas Tariff, Second Revised Volume 1A.

Filed Date: 08/25/2008.

Accession Number: 20080826-0301.

Comment Date: 5 p.m. Eastern Time on Monday, September 08, 2008.

Docket Numbers: RP08-539-000.

Applicants: Venice Gathering System, LLC.

Description: Venice Gathering System, LLC submits Eighth Revised Sheet 4 to FERC Gas Tariff, Original Volume 1, to be effective 10/1/08.

Filed Date: 08/25/2008.

Accession Number: 20080827-0053.

Comment Date: 5 p.m. Eastern Time on Monday, September 08, 2008.

Docket Numbers: RP08-540-000.

Applicants: Kern River Gas Transmission Company.

Description: Request for limited waiver of tariff procedures for issuing refunds in the context of capacity release arrangements re Kern River Gas Transmission Co.

Filed Date: 08/26/2008.

Accession Number: 20080826-5084.

Comment Date: 5 p.m. Eastern Time on Monday, September 08, 2008.

Docket Numbers: RP08-541-000.

Applicants: Southern Star Central Gas Pipeline, Inc.

Description: Southern Star Central Gas Pipeline, Inc. submits 1st Revised Ninth Revised Sheet 11 to FERC Gas Tariff, Original Volume 1.

Filed Date: 08/26/2008.

Accession Number: 20080827-0296.

Comment Date: 5 p.m. Eastern Time on Monday, September 08, 2008.

Docket Numbers: RP08-542-000.

Applicants: Northern Border Pipeline Company.

Description: Northern Border Pipeline Co. submits Twelfth Revised Sheet 99 to FERC Gas Tariff, First Revised Volume 1, effective 10/1/08.

Filed Date: 08/26/2008.

Accession Number: 20080827-0295.

Comment Date: 5 p.m. Eastern Time on Monday, September 08, 2008.

Docket Numbers: RP08-543-000.

Applicants: Carolina Gas Transmission Corporation.

Description: Carolina Gas Transmission Corporation submits Third Revised Sheet 10 et al. to FERC Gas Tariff, Volume 1, to be effective 10/1/08.

Filed Date: 08/27/2008.

Accession Number: 20080828-0016.

Comment Date: 5 p.m. Eastern Time on Monday, September 08, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-20456 Filed 9-2-08; 8:45 am]

BILLING CODE 6717-01-P